DEPARTMENT OF HOMELAND SECURITY

Federal Emergency Management Agency

44 CFR Part 67

[Docket ID FEMA-2013-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground ‸ Elevation in meters (MSL) modified
Unincorporated Areas of Halifax County, North Carolina
Docket No.: FEMA-B-1198
North Carolina | Unincorporated Areas of Halifax County | Fishing Creek | At the upstream side of the railroad | +97
|  |  | Approximately 50 feet downstream of White Oak Road | +132
* National Geodetic Vertical Datum.
+ North American Vertical Datum.
# Depth in feet above ground.
‸ Mean Sea Level, rounded to the nearest 0.1 meter.
ADDRESSES
Unincorporated Areas of Halifax County
Maps are available for inspection at the Halifax County Planning Department, 15 West Pittsylvania Street, Halifax, NC 27839.

Flooding source(s) | Location of referenced elevation | * Elevation in feet (NGVD) + Elevation in feet (NAVD) # Depth in feet above ground ‸ Elevation in meters (MSL) modified | Communities affected
Osceola County, Florida, and Incorporated Areas
Docket No.: FEMA-B-1198
Bass Slough (Lower Reach) | Approximately 1,211 feet downstream of County Route 525 | +57 | City of Kissimmee, Unincorporated Areas of Osceola County.
| Approximately 0.6 mile upstream of State Route 530 | +76
Bass Slough (Upper Reach) | Approximately 1,863 feet downstream of the Bass Slough Tributary confluence | +79 | City of Kissimmee, Unincorporated Areas of Osceola County.
| Approximately 337 feet upstream of Florida Parkway | +80
Bass Slough Tributary | At the Bass Slough (Upper Reach) confluence | +79 | Unincorporated Areas of Osceola County.
| Approximately 0.4 mile upstream of the Bass Slough (Upper Reach) confluence | +79
Clay Hole Pond | Entire shoreline | +66 | Unincorporated Areas of Osceola County.
Courthouse Pond | Entire shoreline | +68 | Unincorporated Areas of Osceola County.
Eagle Pond | Entire shoreline | +65 | Unincorporated Areas of Osceola County.
East City Canal Tributary 1 | At the upstream side of Vine Street | +66 | City of Kissimmee.
| Approximately 637 feet upstream of Vine Street | +66
Lake Marian | Entire shoreline | +59 | Unincorporated Areas of Osceola County.
Multiple Ponding Areas | Area bound by San Remo Road to the north and east, Cypress Parkway to the south, and Marigold Avenue to the west | +69 | Unincorporated Areas of Osceola County.
Multiple Ponding Areas | Area bound by Florida's Turnpike to the north and east and State Route 523 to the south and west | +65 | City of Kissimmee.
Multiple Ponding Areas | Area approximately 0.8 mile northwest of the intersection of Brandon Lane and County Route 523, bound by Williams Road to the north, U.S. Route 441 to the east, and Florida's Turnpike to the south and west | +69 | Unincorporated Areas of Osceola County.
Multiple Ponding Areas | Area bound by County Route 523 to the north, U.S. Route 441 to the east, Hayman Ranch Road to the south, and Florida's Turnpike to the west | +69 | Unincorporated Areas of Osceola County.
Multiple Ponding Areas | Area approximately 2.4 miles north of the intersection of 3rd Street and 4th Avenue, bound by Williams Road to the north, U.S. Route 441 to the east, and Florida's Turnpike to the south and west | +67 | Unincorporated Areas of Osceola County.
Otter Pond | Entire shoreline | +69 | Unincorporated Areas of Osceola County.
Ponding Area | Area bound by West Orange Street to the north, North Main Street to the east, Sumner Street to the south, and U.S. Routes 17/92 to the west | +66 | Unincorporated Areas of Osceola County.
Ponding Area | Area bound by Pleasant Hill Road to the north, Florida's Turnpike to the east, and Scrub Jay Trail to the south and west | +64 | Unincorporated Areas of Osceola County.
Ponding Area | Area approximately 0.9 mile east of the intersection of Martigues Drive and Amiens Road, bound by West Southport Road to the north, Florida's Turnpike to the east, and Scrub Jay Trail to the south and west | +63 | Unincorporated Areas of Osceola County.
Ponding Area | Area bound by Amiens Road to the north and east, Chestnut Street to the south, and Bordeaux Road to the west | +62 | Unincorporated Areas of Osceola County.
Ponding Area | Area approximately 0.6 mile east of the intersection of Saint Michel Way and Amiens Road, bound by West Southport Road to the north, Florida's Turnpike to the east, and Scrub Jay Trail to the south and west | +62 | Unincorporated Areas of Osceola County.
Ponding Area | Area bound by Old Pleasant Hill Road to the north, Scrub Jay Trail to the east, and the Polk County boundary to the south and west | +60 | Unincorporated Areas of Osceola County.
Ponding Area | Area bound by Chestnut Street to the north, Scrub Jay Trail to the east, and the Polk County boundary to the south and west | +63 | Unincorporated Areas of Osceola County.
Ponding Area | Area approximately 2.2 miles north of the intersection of Coulter Drive and County Route 523, bound by Williams Road to the north, U.S. Route 441 to the east, and Florida's Turnpike to the south and west | +66 | Unincorporated Areas of Osceola County.
Unnamed Connecting Channel downstream of Clay Hole Pond | Just upstream of Eagle Pond | +65 | Unincorporated Areas of Osceola County.
| Just downstream of Clay Hole Pond | +66
Unnamed Connecting Channel downstream of Eagle Pond | Approximately 0.6 mile downstream of Eagle Pond | +65 | Unincorporated Areas of Osceola County.
| Just downstream of Eagle Pond | +65
Unnamed Connecting Channel upstream of Lake Marian | Just upstream of Lake Marian | +59 | Unincorporated Areas of Osceola County.
| Approximately 0.4 mile upstream of Lake Marian | +65
Unnamed Connecting Channel upstream of Lake Marian | Just upstream of Lake Marian | +59 | Unincorporated Areas of Osceola County.
| Approximately 1.0 mile upstream of Lake Marian | +69
Unnamed Flooding Area upstream of Lake Marian | Just upstream of Lake Marian | +59 | Unincorporated Areas of Osceola County.
| Approximately 0.5 mile upstream of Lake Marian | +65
WPA Canal Tributary 1 | Approximately 1,612 feet upstream of the WPA Canal confluence | +71 | City of St. Cloud, Unincorporated Areas of Osceola County.
| Approximately 1.6 miles upstream of Snail Kite Avenue | +75
WPA Canal Tributary 1-1 | At the WPA Canal Tributary 1 confluence | +75 | City of St. Cloud, Unincorporated Areas of Osceola County.
| Approximately 0.7 mile upstream of the WPA Canal Tributary 1 confluence | +75
* National Geodetic Vertical Datum.
+ North American Vertical Datum.
# Depth in feet above ground.
‸ Mean Sea Level, rounded to the nearest 0.1 meter.
ADDRESSES
City of Kissimmee
Maps are available for inspection at City Hall, Engineering Department, Suite 301, 101 North Church Street, Kissimmee, FL 34741.
City of St. Cloud
Maps are available for inspection at City Hall, Public Works Department, Building A, 2nd Floor, 1300 9th Street, St. Cloud, FL 34769.
Unincorporated Areas of Osceola County
Maps are available for inspection at the Osceola County Stormwater Section, 1 Courthouse Square, Suite 1400, Kissimmee, FL 34741.
Oswego County, New York (All Jurisdictions)
Docket Nos.: FEMA-B-1210 and 1232
Bell Creek (backwater area) | From the Town of Schroeppel corporate limits to approximately 1,380 feet upstream of the Town of Schroeppel corporate limits | +379 | Town of Volney.
Black Creek (backwater area) | From the Town of Mexico corporate limits to approximately 200 feet upstream of the Town of Mexico corporate limits | +442 | Town of Palermo.
Lake Ontario | Entire shoreline within Selkirk Shores State Park boundary | +249 | Town of Richland.
Lycoming Creek (backwater area) | From the Town of Scriba corporate limits to approximately 0.5 mile upstream of the Town of Scriba corporate limits | +277 | Town of New Haven.
Panther Lake | Entire shoreline within community | +600 | Town of Amboy.
Salmon River | Approximately 0.63 mile upstream of County Route 2A (Lehigh Road) | +436 | Town of Albion.
| Approximately 0.96 mile upstream of County Route 2A (Lehigh Road) | +440
Scriba Creek | Approximately 0.90 mile upstream of County Route 23 (Potter Road) | +546 | Town of Amboy.
| Approximately 1.30 miles upstream of County Route 23 (Potter Road) | +547
South Branch Grindstone Creek (backwater effects from Lake Ontario) | Areas within Selkirk Shores State Park boundary | +249 | Town of Richland.
* National Geodetic Vertical Datum.
+ North American Vertical Datum.
# Depth in feet above ground.
‸ Mean Sea Level, rounded to the nearest 0.1 meter.
ADDRESSES
Town of Albion
Maps are available for inspection at the Albion Town Municipal Building, 15 Bridge Street, Altmar, NY 13302.
Town of Amboy
Maps are available for inspection at the Amboy Town Hall, 822 State Route 69, Williamstown, NY 13493.
Town of New Haven
Maps are available for inspection at the Town Hall, 4279 State Route 104, New Haven, NY 13121.
Town of Palermo
Maps are available for inspection at the Palermo Town Municipal Offices, 53 County Route 35, Fulton, NY 13069.
Town of Richland
Maps are available for inspection at the Town of Richland Courthouse Building, 1 Bridge Street, Pulaski, NY 13142.
Town of Volney
Maps are available for inspection at the Volney Town Offices, 1445 County Road 6, Fulton, NY 13069.
Washoe County, Nevada, and Incorporated Areas
Docket No.: FEMA-B-1227
211 Creek | Approximately 400 feet downstream of U.S. Route 395 | +5039 | City of Reno, Unincorporated Areas of Washoe County.
| Approximately 0.42 mile upstream of Union Pacific Railroad | +5513
6015 Creek | At the upstream side of the West Copperfield Creek confluence | +5166 | City of Reno.
| Approximately 1,500 feet upstream of the West Copperfield Creek confluence | +5252
6634 Creek | Approximately 1.11 miles downstream of Union Pacific Railroad | +5068 | City of Reno.
| Approximately 0.47 mile upstream of Union Pacific Railroad | +5473
Copperfield Creek | Approximately 1,600 feet downstream of the West Copperfield Creek confluence | +5040 | City of Reno, Unincorporated Areas of Washoe County.
| Approximately 0.92 mile upstream of U.S. Route 395 (southbound on-ramp) | +5295
Evans Creek | Approximately 1,700 feet upstream of Lakeside Drive | +4682 | City of Reno, Unincorporated Areas of Washoe County.
| Approximately 0.52 mile upstream of Evans Creek Drive | +5070
Fat Creek | Approximately 460 feet downstream of U.S. Route 395 | +5040 | City of Reno, Unincorporated Areas of Washoe County.
| Approximately 0.62 mile upstream of Frontage Road | +5086
Flat Creek | Approximately 975 feet downstream of the Flat Creek Split confluence | +5043 | City of Reno, Unincorporated Areas of Washoe County.
| Approximately 0.58 mile upstream of the Flat Creek Split confluence | +5177
Flat Creek Split | Approximately 50 feet upstream of Frontage Road | +5043 | City of Reno, Unincorporated Areas of Washoe County.
| Approximately 130 feet downstream of the Flat Creek confluence | +5052
North Evans Creek | Approximately 160 feet downstream of the Evans Creek confluence | +4900 | Unincorporated Areas of Washoe County.
| Approximately 0.74 mile upstream of the Evans Creek confluence | +5094
Short Creek | Approximately 1,500 feet downstream of U.S. Route 395 | +5039 | City of Reno, Unincorporated Areas of Washoe County.
| Approximately 0.61 mile upstream of Frontage Road | +5153
West Copperfield Creek | Approximately 1,000 feet downstream of Frontage Road | +5060 | City of Reno, Unincorporated Areas of Washoe County.
| Approximately 1.01 miles upstream of Frontage Road | +5259
* National Geodetic Vertical Datum.
+ North American Vertical Datum.
# Depth in feet above ground.
‸ Mean Sea Level, rounded to the nearest 0.1 meter.
ADDRESSES
City of Reno
Maps are available for inspection at the City Hall Annex, 450 Sinclair Street, Reno, NV 89501.
Unincorporated Areas of Washoe County
Maps are available for inspection at the Washoe County Administration Building, 1001 East 9th Street, Reno, NV 89512.
Edgecombe County, North Carolina, and Incorporated Areas
Docket No.: FEMA-B-1202 and B-1213
Cokey Swamp | Approximately 0.9 mile downstream of North Carolina Highway 43 | +77 | Town of Sharpsburg, Unincorporated Areas of Edgecombe County.
| Approximately 70 feet downstream of the railroad | +118
Cokey Swamp Tributary | At the Cokey Swamp confluence | +88 | Unincorporated Areas of Edgecombe County.
| Approximately 450 feet upstream of Floods Store Road (State Route 1146) | +106
Cowlick Creek | At the Tar River confluence | +78 | City of Rocky Mount.
| At the Parkers Canal confluence | +79
Fishing Creek | Approximately 0.3 mile downstream of U.S. Highway 301 | +94 | Unincorporated Areas of Edgecombe County.
| Approximately 1,000 feet downstream of the railroad | +95
Indian Branch | Approximately 175 feet downstream of Gay Road (State Route 1268) | +70 | Unincorporated Areas of Edgecombe County.
Little Cokey Swamp | At the Cokey Swamp confluence | +80 | Unincorporated Areas of Edgecombe County.
| Approximately 250 feet downstream of Greenpasture Road (State Route 1141) | +93
Swift Creek | Approximately 0.6 mile downstream of Seven Bridges Road (State Route 1404) | +78 | Unincorporated Areas of Edgecombe County.
| Approximately 400 feet downstream of the railroad | +90
Tar River | Approximately 0.5 mile downstream of the Cowlick Creek confluence | +78 | City of Rocky Mount, Unincorporated Areas of Edgecombe County.
| Approximately 1,100 feet downstream of Atlantic Avenue | +81
White Oak Swamp | Approximately 0.6 mile upstream of Speight's Chapel Road | +103 | Town of Whitakers, Unincorporated Areas of Edgecombe County.
| Approximately 630 feet upstream of South Cutchin Street (State Route 1410) | +124
* National Geodetic Vertical Datum.
+ North American Vertical Datum.
# Depth in feet above ground.
‸ Mean Sea Level, rounded to the nearest 0.1 meter.
ADDRESSES
City of Rocky Mount
Maps are available for inspection at the Planning Department, 331 South Franklin Street, Rocky Mount, NC 27802.
Town of Sharpsburg
Maps are available for inspection at the Town Hall, 110 Railroad Street, Sharpsburg, NC 27878.
Town of Whitakers
Maps are available for inspection at the Town Hall, 302 Northwest Railroad Street, Whitakers, NC 27891.
Unincorporated Areas of Edgecombe County
Maps are available for inspection at the Edgecombe County Planning Department, 201 Saint Andrews Street, Tarboro, NC 27886.
Nash County, North Carolina, and Incorporated Areas
Docket No.: FEMA-B-1153
Cokey Swamp | Approximately 90 feet downstream of Old Wilson Road (Secondary Road 1002) | +107 | City of Rocky Mount.
| Approximately 1.1 mile upstream of Old Wilson Road (Secondary Road 1002) | +118
Cowlick Creek | Just upstream of U.S. Highway 64 | +79 | City of Rocky Mount.
| Just downstream of Cortland Avenue | +92
Fishing Creek | Just upstream of the railroad | +97 | Unincorporated Areas of Nash County.
| Approximately 50 feet downstream of Ward Road (Secondary Road 1502) | +132
Grape Branch | Approximately 200 feet upstream of Beechwood Drive | +107 | City of Rocky Mount, Unincorporated Areas of Nash County.
| Approximately 1,100 feet upstream of Beechwood Drive | +107
Indian Branch | Approximately 175 feet downstream of Gay Road (Secondary Road 1268) | +70 | City of Rocky Mount.
| Approximately 190 feet upstream of Hunting Lodge Drive | +91
Little Cokey Swamp | Approximately 250 feet downstream of Greenpasture Road (Secondary Road 1141) | +93 | City of Rocky Mount.
| Approximately 50 feet downstream of Kingston Avenue | +130
Little Cokey Swamp Tributary | At the confluence with Little Cokey Swamp | +105 | City of Rocky Mount.
| Approximately 200 feet upstream of South Church Street | +126
Maple Creek | Approximately 0.3 mile upstream of Bethlehem Road (Secondary Road 1142) | +111 | City of Rocky Mount, Unincorporated Areas of Nash County.
| Approximately 280 feet upstream of South Old Carriage Road | +166
Parkers Canal | At the confluence with Cowlick Creek | +79 | City of Rocky Mount.
| Approximately 60 feet downstream of Atlantic Avenue | +98
Pig Basket Creek | Approximately 900 feet upstream of Red Oak Road (Secondary Road 1003) | +127 | Town of Red Oak, Unincorporated Areas of Nash County.
| Approximately 0.4 mile upstream of Taylors Store Road (Secondary Road 1004) | +155
Polecat Branch | At the confluence with Maple Creek | +112 | Unincorporated Areas of Nash County.
| Approximately 0.8 mile upstream of the confluence with Polecat Branch Tributary | +120
Sapony Creek | Approximately 200 feet upstream of Sandy Cross Road (Secondary Road 1717) | +132 | Unincorporated Areas of Nash County.
| Approximately 1,550 feet upstream of NC Highway 58 | +145
Stony Creek | Approximately 0.5 mile downstream of Red Oak Road (Secondary Road 1003) | +130 | City of Rocky Mount, Town of Nashville.
| Just upstream of U.S. Route 64 | +152
Swift Creek | Approximately 1.8 miles downstream of the Edgecombe County boundary | +88 | City of Rocky Mount, Unincorporated Areas of Nash County.
| At Red Oak Road (Secondary Road 1003) | +131
Tar River | Approximately 150 feet downstream of South Old Carriage Road | +133 | City of Rocky Mount, Unincorporated Areas of Nash County.
| Approximately 0.64 mile downstream of U.S. Highway 64 | +162
* National Geodetic Vertical Datum.
+ North American Vertical Datum.
# Depth in feet above ground.
‸ Mean Sea Level, rounded to the nearest 0.1 meter.
ADDRESSES
City of Rocky Mount
Maps are available for inspection at the Planning Department, 331 South Franklin Street, Rocky Mount, NC 27802.
Town of Nashville
Maps are available for inspection at the Town Hall, 499 South Barnes Street, Nashville, NC 27856.
Town of Red Oak
Maps are available for inspection at the Town Hall, 8406 Main Street, Red Oak, NC 27868.
Unincorporated Areas of Nash County
Maps are available for inspection at the Nash County Planning Department, 120 West Washington Street, Suite 2110, Nashville, NC 27856.

(Catalog of Federal Domestic Assistance No. 97.022, “Flood Insurance.”)

James A. Walke,
Acting Deputy Associate Administrator for Mitigation, Department of Homeland Security, Federal Emergency Management Agency.

[FR Doc. 2013-03259 Filed 2-12-13; 8:45 am]

BILLING CODE 9110-12-P